DEPARTMENT OF ENERGY

Federal Energy Regulatory Commission

[Docket No. EL07-72-000]

Midwest ISO Transmission Owners Complainant, v. Midwest independent Transmission System Operator, Inc. Respondent; Notice of Complaint

June 19, 2007.

Take notice that on June 14, 2007, the Midwest ISO Transmission Owners, pursuant to section 206 of the Federal Power Act, and section 206 of the Commission's Rules of Practice and Procedures, 18 CFR 385.206 (2006), filed a complaint against the Midwest Independent Transmission System Operator, Inc. (Midwest ISO) alleging that the Midwest ISO violated the terms of its Open Access transmission and Energy Markets Tariff in allocating construction work in progress and costs for plants not yet in service associated with new reliability facilities under Attachments FF and GG and Schedule 26 of the tariff.

The Midwest ISO Transmission Owners certify that a copy of the complaint has been served on the Midwest ISO.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 5, 2007.

Kimberly D. Bose,
Secretary.

[FR Doc. E7-12304 Filed 6-25-07; 8:45 am]

BILLING CODE 6717-01-P